DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 68 FR 37500-37502, dated June 24, 2003) is amended to (1) Establish the Office of the Chief Operating Officer; (2) abolish the Office of Management and Operations and the Office of Program Services and; (3) establish the Financial Management Office with a direct organizational reporting relationship to the Office of the Chief Operating Officer, CDC.

As a result, the following organizational changes will occur:

I. Establish the Office of the Chief Operating Officer (CAJ).

II. Delete the following components Office of Program Services (CA5) and the Office of Management and Operations (CAD), and transfer the components under them to the Office of the Chief Operating Officer (CAJ): Financial Management Office (CAC), Facilities Planning and Management Office (CAD2), Human Resources Management Office (CAD3), Information Resources Management Office (CA54), Management Analysis Services Office (CA59), Procurement and Grants Office (CA58), and Office of Security and Emergency Preparedness (CAD4).

III. Delete the Financial Management Office (CA53) as a component of the Office of the Director, CDC (CA).

Section C-B, Organization and Functions, is hereby amended as follows:

Delete the title and functional statement for the Office of Management and Operations (CAD) and Office of Program Services (CA5) and insert the following:

Office of the Chief Operating Officer (CAJ). (1) Provides mission and values-based leadership, direction, support and assistance to CDC's program and activities to enhance CDC's strategic position in public health; ensure responsible stewardship; maintain core values; optimize operational effectiveness of business services; and institutionalize accountability for achieving management initiatives; (2) directs the conduct of operational activities undertaken by Agency program support and management service staff, including, among others, facilities and real property planning and management; grants, procurement and material management; human resources management; information technology and systems planning and support; internal security and emergency preparedness; and management analysis and services; (3) manage the planning, evaluation, and implementation of continuous improvement and reengineering initiatives and adoption of innovations and technologies in these areas and ensures that they are undertaken in a comprehensive and integrated manner and with consideration of strategic implications for human capital planning; (4) maintains liaison with officials of HHS responsible for the direction and conduct of DHHS program support and management services functions; (5) participates in the development of CDC's goals and objectives; (6) provides assistance to DHHS officials and to CDC's CIOs to assure that the human resources of CDC are sufficient in numbers, training, and diversity to effectively conduct the public health mission of CDC; and, (7) provides direction for the Agency's ethics program, alternative dispute resolution activities, and activities associated with Departmental and Presidential management initiatives.

Office of the Director (CAJ1). (1) Manages and directs the activities and functions of the Office of the Chief Operating Officer; (2) provides guidance and support in the conduct and evaluation of program support, business services, and management activities performed for or by Centers/Institute/Offices; (3) participates in the development of CDC's goals and objectives; (4) advises and assists the Director, CDC, the Chief Operating Officer, and other key officials on all aspects of the mission, activities and functions of the Office of the Chief Operating Officer; (5) plans, coordinates, and provides administrative and management advice and guidance for the support of CDC's programs and activities; (6) plans and coordinates in support of the CIOs the provision of fiscal, information technology, personnel, travel, procurement, grants, property, and facility management, and other administrative services; (7) plans, coordinates, and evaluates CIO requirements relating to small purchase procurement, material management, and intra-agency agreements/reimbursable agreements; (8) ensures the direction, conduct, and evaluation of fiscal management activities necessary for the administration of CIO contracts, grants and cooperative agreements; (9) resolves and responds to external inquiries of current fiscal year funding expenditures; (10) plans and coordinates facility management issues, problems and changes, and physical security issues; and (11) plans and coordinates the implementation of various federal administrative, statutory, regulatory, and policy requirements.

Financial Management Office (CAJ2). (1) Provides leadership and coordination in the development and administration of CDC's financial management policies; (2) develops budget submissions for CDC; (3) collaborates with CDC's Office of Program Planning and Evaluation in the development and implementation of long-range program and financing plans; (4) participates in budget reviews and hearings; (5) manages CDC's system of internal budgetary planning and control of funds; (6) develops and implements CDC-wide budgetary, accounting, and fiscal systems and procedures; (7) conducts CDC-wide manpower management (including productivity measurement) activities; provides accounting and auditing services; (8) prepares financial reports; (10) serves as the focal point for domestic and international travel policy, procedures and interpretation; (11) provides legislation reference services; (12) plans, directs, and conducts internal quality assurance reviews; (13) analyzes data and makes recommendations to assure effective safeguards are in place to prevent fraud, waste and abuse; (14) assists in identifying or conducting special financial management training programs; and (15) maintains liaison with the Office of the Secretary, Department of Health and Human Services, and other Government organizations on financial management matters.

Office of the Director (CAJ21). (1) Provides leadership and guidance in all areas of financial management; (2) serves as a CDC witness in budget hearings before Committees of Congress, Office of Management and Budget, and Department of Health and Human Services; (3) participates with top management in program planning and policy determinations, evaluations conferences, and decisions concerning financial resources; (4) provides a centralized source for current information on financial management legal and regulatory requirements governing the prevention and control of diseases; (5) advises the CDC Deputy Director for Program Management concerning reprogramming of funds; and (6) provides consultation and assistance in financial management to State and local health departments when requested by CDC officials.

Financial Policy and Internal Quality Assurance Activity (CAJ212). (1) Provides leadership, consultation, guidance and advice on financial policy and internal quality assurance matters for CDC; (2) develops, analyzes, and evaluates financial management policies, guidelines, and services which have CDC-wide impact; (3) works with personnel from all disciplines within CDC to identify the areas in which financial policy needs to be strengthened; (4) reviews, assesses, and recommends financial policy that is consistent with internal controls and the hierarchy of Federal and Department of Health and Human Services policies and procedures; (5) ensures that resources are safeguarded against fraud, waste, and abuse; managed economically and efficiently; and desired results are achieved; (6) reviews and independently assesses the soundness, adequacy, and application of budgetary and accounting controls; (7) reviews the reliability and integrity of financial and budget information and the means used to identify, measure, classify, and report such information; (8) reviews the adequacy and effectiveness of systems and procedures having an impact on expenditures of funds and use of resources; (9) assesses the reliability and accuracy of accounting and budgetary data and reports developed within CDC; and (10) identifies problems and weaknesses in internal controls and provides reliable information for management to base correction action.

Accounting Branch (CAJ22). (1) In conjunction with the Financial Policy and Internal Quality Assurance Activity, develops accounting and travel policies and procedures for CDC; (2) provides financial information for management purposes, effective control and accountability of all funds, and suitable integration of CDC accounting with the accounting operations of the U.S. Treasury; (3) coordinates activities of the Accounting Branch with the FMO Director, the FMO Budget Branch, the FMO Financial Services Branch, the Financial Policy and Internal Quality Assurance Activity, and the FMO Financial Systems Branch; (4) coordinates accounting and travel policy issues with the HHS Office of Financial Policy; (5) reviews and develops accounting systems to comply with requirements of HHS and the General Accounting Office and maintains an integrated system of accounts to meet the budgetary and accounting requirements of CDC; (6) reviews and implements the legal, accounting and reporting requirements of the Chief Financial Officers' Act, the Federal Managers' Financial Integrity Act; the Principles of Appropriation Law and other regulatory requirements; (7) compiles all accounting information for the 5-Year Financial Management Plan which provides CDC's financial management vision and objectives for the ensuing 5 year period; (8) develops strategies for employee training and professional development; and (9) compiles and submits the annual financial statements required by the Chief Financial Officers' Act.

Debt and Property Management Section (CAJ223). (1) Compiles and submits the quarterly HHS Debt Management report which reports the status of all unpaid debts due to CDC from the public; (2) compiles and submits the annual Treasury report of debts due to CDC; (3) performs all debt collection activities in accordance with the Debt Collection Act of 1982 and in accordance with requirements provided by HHS; (4) prepares customer billings; (5) collects and records all amounts billed to customers; (6) controls billings and collections processed on the On-line Payment and Collection System (OPAC/IPAC) related to debt collection; (7) reconciles accounts receivable subsidiary records to the CDC general ledger receivable accounts; (8) coordinates CDC's debt collection activities with FMO's Financial Services Branch and with CDC program administrative offices; (9) coordinates all debt collection activities with the U.S. Justice Department and with private collection agencies; (10) prepares and controls daily deposits which are delivered to the Federal Reserve Bank; (11) performs property accounting activities including maintenance of general ledger property accounts and reconciliation with the CDC Personal Property System and (12) maintains travel advance records and reconciles subsidiary records to general ledger advance accounts.

Cincinnati Accounting Section (CAJ222). (1) Maintains a system of accounts to meet the budgetary and accounting requirements of the NIOSH accounting point; (2) provides financial information for management purposes, effective control and accountability of all accounting point funds, and integration of NIOSH accounting with the accounting and reporting operations of CDC and the U.S. Treasury; (3) coordinates the NIOSH accounting point accounts payable and receivable activities including auditing of vouchers; (4) reviews the NIOSH accounting point system for compliance with CDC, HHS and General Accounting Office requirements; and (5) reconciles NIOSH accounting point general ledger accounts including cash, property and receivables.

General Ledger Section (CAJ224). (1) Compiles and submits the Report of Budget Execution which reports the obligations incurred against the current year appropriation; (2) compiles and submits the monthly Statement of Transactions report to the U.S. Treasury which reports the CDC cash disbursements by appropriation. (3) reconciles general ledger cash accounts with the U.S. Treasury monthly disbursements and receipts; (4) performs daily maintenance on the general ledger accounts including the asset, liability, capital and budgetary accounts; (5) makes recommendations for improvements to the accounting system and monitors internal controls; (6) analyzes the general ledger accounts, prepares system-wide reconciliations and interprets the effect of transactions on the CDC's financial resources; (7) develops new reports to support budget requirements and to support the needs of CDC management; (8) controls input of all funding transactions; (9) performs daily maintenance of accounting system tables; (10) controls grant awards processed through the Payment Management System (PMS) including submission of grant obligations to PMS, recording of disbursements received from PMS and reconciliation of the general ledger accounts.

Budget Branch (CAJ23). (1) Provides leadership, consultation, guidance, and advice on budgetary matters to CDC; (2) prepares consolidated appropriation budget estimates including narrative justifications; (3) conducts studies in budget planning to determine proper relationship between program planning and acquisition of funds; (4) develops criteria to be used in estimating program needs; (5) conducts CDC-wide manpower management (including productivity measurement) activities; (6) develops expenditure information for preparation of quarterly and annual budgets; and (7) designs and prepares reports, tables, and analyses to demonstrate fiscal requirements.

Congressional/Legislative Branch (CAJ24). (1) Serves as the primary CDC focal point for planning, organizing, and administering a range of activities for legislative issues related to Congressional appropriation legislation matters; (2) summarizes Congressional and legislative positions on national public health program issues in order to establish impact on CDC budgetary requirements; (3) reviews and analyzes new or amended appropriation legislation or report language concerning public health programs, health related research activities, and scientific research pertinent to CDC's mission and responsibilities and prepares related issues papers; (4) in coordination with CIOs., develops appropriation report language related to budget formulation submissions; (5) develops strategy and background documentation regarding appropriation legislative issues and prepares related materials; (6) develops appropriation legislative background materials for presentation to HHS, Office of Management and Budget (OMB) and Congressional Appropriations Committees; (7) assists the Director, FMO, as the CDC representative at appropriations hearings; (9) responds to inquiries regarding appropriation budget-related policy issues; and (10) develops training strategies on legislative issues for the professional development of staff.

Financial Systems Branch (CAJ25). (1) Responsible for the analysis, design, programming, implementation, enhancement and documentation of automated accounting systems and subsystems for FMO; (2) provides consultative services to systems implementers within CDC, the Department and other Federal agencies on a broad range of issues including policy, data integrity, systems integration and interfacing issues as they relate to financial management systems; (3) provides technical support and assistance to various committees, teams and users in the integration with FMO financial systems and the access and interpretation of financial system data; and (4) responsible for hardware and software support for microcomputers and local area network(s) within FMO.

Financial Services Branch (CAJ26). (1) In conjunction with the Financial Policy and Internal Quality Assurance Activity, develops and implements policies and procedures for all accounts payable and disbursement functions at CDC; (2) coordinates activities of the Financial Services Branch with the FMO Director, FMO Accounting Branch, FMO Budget Branch, FMO Financial Policy and Internal Quality Assurance Activity, and FMO Financial Systems Branch; (3) coordinates the development of new financial systems to automate accounts payable and disbursement operations, and maintains and serves as the CDC focal point on all existing automated payment and disbursement systems; (4) reviews obligation documents and payment requests from a variety of private sector and government sources to determine the validity and legality of the requests, and provides electronic authorization to the Department of the Treasury to issue checks or electronic funds transfers for valid payment requests; (5) compiles and submits a variety of cash management and travel reports required by the Department of the Treasury and various other outside agencies; (6) acts as liaison with the CIOs and outside customers to provide financial information, resolve problems and provide training and advice on payment, travel and disbursement issues; (7) serves as the CDC subject matter expert on all financial matters dealing with international travel, assignments and payments; and (8) analyzes internal reports to provide management information on topics such as interest expenses, workload, and various other performance indicators.

Cash Management and Quality Control Section (CAJ262). (1) Overall responsibility for policies, procedures, internal controls and systems related to section payment and disbursement activities; (2) analyzes and reconciles disbursements made for CDC by other Federal activities, and insures that disbursements are consistent with Federal Appropriations Law requirements, GAO policies, interagency elimination entry requirements, and other governing financial regulations; (3) overall responsibility for all financial matters dealing with international travel, assignments and payments; (4) serves as the focal point at CDC for vendor, employee and CIO payment and disbursement questions and resolution of payment and disbursement problems; (5) acts as CDC liaison on all payment issues related to the implementation of the Government Purchase Card Program; (6) maintains contract advance records and coordinates the recording and reconciling of subsidiary records to general ledger advance accounts; (7) serves as the CDC focal point for cashier and imprest fund issues; (8) analyzes year-end unliquidated obligations for compliance with Federal Appropriations Laws and the Economy Act, and recommends funding changes to CIO's; and (9) prepares and reconciles all U.S. Treasury Department reports and transmissions and serves as the primary point of contact for all U.S. Treasury issues; (10) performs ongoing quality control reviews of various payment and disbursement processes and systems in the Financial Services Branch, including reviews to ensure compliance with the Prompt Payment Act and to validate the legality, propriety and accounting treatment of travel and non-travel payments at CDC, including reviews of payments processed by the Cincinnati office; (11) identifies recurring problems in payment processes and recommends corrective actions or identifies required training to correct the deficiency; (12) serves as the focal point for all Federal Income Tax issues for CDC payments, reconciles tax withholding general ledger accounts, and prepares all monthly, quarterly and annual reports to the Internal Revenue Service; and (13) establishes local policy and procedures on electronic payments and maintains the automated file containing vendor payment address and banking information.

Payment and Travel Services Section (CAJ263). Develops and implements policies and procedures related to payment processes and systems and ensures appropriate internal controls are in place and functioning to ensure the integrity and legality of CDC payments; (2) analyzes and approves payment for all equipment, supplies, travel, transportation and services procured by CDC, and ensures the validity, legality and proper accounting treatment of expenditures processed through the Accounts Payable module of the CDC Financial Management System; (3) provides expert level guidance, oversight, and interpretation of policies, laws, rules and regulations for the CIO's on all aspects of travel procedures and policies at CDC, including the use of the automated travel system, local travel, domestic and foreign temporary duty travel, and change of station travel for civil service employees, foreign service employees, commissioned officers, CDC fellows, etc.; (4) serves as the Subject Matter Expert and focal point for the development of new financial systems to automate accounts payable operations and serves as the focal point for payment systems issues for CDC; (5) researches and analyzes appropriations law issues at CDC and provide guidance consistent with legal and regulatory guidelines; (6) compiles and submits a variety of management and payment performance reports required by various outside agencies; (7) analyzes various internal reports to provide management information on topics such as interest expenses, workload, and various other performance indicators; (8) coordinates all aspects of CDC's Electronic Commerce Program in the Financial Services Branch; and (9) analyzes a variety of accounting and travel system reports to ensure that obligations are liquidated in a timely manner.

Facilities Planning and Management Officer (CAJ3). (1) operates, maintains, repairs, and modifies CDC's Atlanta area plant facilities and conducts a maintenance and repair program for CDC's program support equipment; (2) carries out facilities planning functions for CDC, including new or expanded facilities, and a major repair and improvement program; (3) develops services for new, improved, and modified equipment to meet program needs; and (4) conducts CDC's real property and space management activities, including the acquisition of leased space, the purchase and disposal of real property, and provides technical assistance in space planning to meet programmatic needs.

Office of the Director (CAJ31). (1) Plans, directs, and coordinates the functions and activities of the Facilities Planning and Management Office (FPMO); (2) provides management and administrative direction for budget planning and execution, property management, and personnel management within FPMO; (3) provides leadership and strategic support to senior managers in the determination of CDC's long term facilities needs; (4) directs the operations of FPMO staff involved in the planning, evaluation, design, construction, and management of facilities and acquisition of property; (5) processes data for management and control systems and develops reports and analyses; and (6) assists and advises senior CDC officials in the development, coordination, direction, and assessment of facilities and real property activities throughout CDC's facilities and operations, and assures consideration of facilities management implications in program decisions.

Real Property and Space Management Activity (CAJ312). (1) Conducts the Real Property and Space Management Program throughout CDC, including the acquisition of leased space, the purchase sand disposal of real property for CDC (with emphasis on current and long-range planning for the utilization of existing and future real property resources); (2) provides technical assistance in space planning to meet programmatic needs; (3) administers day-to-day management of leased facilities and ensures contract compliance by lessors; (4) provides technical assistance and prepares contract specifications for all repair and improvement projects in leased space; (5) maintains liaison with the General Services Administration Regional Offices; (6) performs all functions relating to leasing and/or acquisition of real property under CDC delegation of authority for leasing special purpose space; and (7) coordinates the relocation of CDC personnel within owned and leased space.

Design and Construction Management Office (CAJ32). (1) Develops architectural designs and engineering specifications for construction of new facilities and major modifications and renovations to CDC-owned facilities; (2) provides architectural and engineering technical services and consultation on facility project designs; (3) provides in-house construction administration services for CDC-owned facilities in Atlanta; (4) manages interior design and furnitures standards; and (5) coordinates development and determination of best methods and means for the planning and conduct of assigned projects, including selection of resources.

Facilities Engineering Office (CAJ33). (1) Operates, maintains, repairs, and modifies CDC's Atlanta area plant facilities and other designated CDC facilities throughout the United States and Puerto Rico and conducts a maintenance and repair program for CDC's program support equipment; (2) develops services for new, improved, and modified equipment to meet program needs; (3) provides technical assistance, reviews maintenance and operation programs, and recommends appropriate action for all Atlanta area facilities and other designated CDC facilities throughout the United States and Puerto Rico; (4) provides recommendations, priorities, and services for new, improved, or modified equipment to meet program needs; (5) provides maintenance and operation of the central energy plant including structures, utilities production and utilities distribution systems and equipment; (6) conducts a program of custodial services, waste disposal, incinerations, and disposal of biological waste and other building services at all CDC Atlanta area facilities and other designated CDC facilities throughout the United States and Puerto Rico; (7) provides landscape development, repair, and maintenance at all CDC Atlanta area facilities and other designated CDC facilities throughout the United States and Puerto Rico; (8) provides hauling and moving services for CDC in the Atlanta area; (9) provides insect and rodent control services for CDC in Atlanta area facilities; (10) develops required contractual services and provides supervision for work performed in these areas; (11) establishes and maintains a computerized system for maintenance services and for stocking and ordering supplies and replacement parts; (12) provides for pick-up and delivery of supplies and replacement parts to work sites; (13) maintains adequate stock levels of supplies and replacement parts; (14) as needed, prepares designs and contract specifications and coordinates completion of contract maintenance projects; (15) manages CDC's Energy Conservation Program for all CDC facilities; (16) reviews all construction documents for energy conservation goals and compliance with applicable CDC construction standards; (17) participates on all core teams and value engineering teams; (18) provides maintenance and inspection for fire extinguishers and fire sprinkler systems; (19) provides services for the procurement of natural gas; (20) develops and maintains a standard equipment list for all CDC facilities; and (21) assists the Design and Construction Management Office and the Facilities Planning and Project Management Office with facility-related issues.

Facilities Planning and Project Management Office (CAJ34). Provides professional architectural/engineering capabilities and technical and administrative project support to CDC and the CIOs for renovations and improvements to CDC-owned facilities and construction of new facilities; (2) prioritizes design and construction needs for requested CIO projects; (3) manages and administers the CDC renovations and improvement (R&I) budget; (4) develops project management requirements (including determination of methods and means of project completion and selection of resources), funding sources, and budgets; and (5) serves as the point of contact with CIOs for administration and coordination of all facilities-related needs, i.e., project planning, evaluation, estimation, and tracking.

Human Resources Management Office (CAJ4). (1) Provides service, support, advice, and assistance to CDC organizations, management, and employees in all areas of human resources management; (2) conducts and coordinates personnel management for CDC's civil services and Commissioned Corps personnel; (3) conducts CDC's fellowship programs; (4) develops and issues policies and procedures; conducts recruitment, special emphasis, staffing, position classification, position management, pay administration, performance management systems, employee training and development, and labor relations programs; (5) maintains personnel records and reports, and processes personnel actions and documents; (6) administers the Federal life and health insurance programs; (7) administers the employee recognition, suggestion, and incentive awards programs; (8) furnishes advice and assistance in the processing of Office of Workers' Compensation Program claims; (9) conducts CDC's personnel security and substance abuse programs; (10) develops, maintains, and supports information systems to conduct personnel activities and provide timely information and analyses of CDC personnel and staffing to CDC management and employees; (11) maintains liaison with the Department of Health and Human Services and the U.S. Office of Personnel Management (USOPM) in the area of human resources management; and (12) administers the National Performance Review and Human Resources initiatives to meet current and future requirements.

Office of the Director (CAJ41). (1) Provides leadership and technical guidance to CDC in planning, coordinating, and conducting an effective personnel program for civil service (including the Senior Biomedical Research Service [SBRS] and the Senior Executive Service [SES]), Title 38, Commissioned Corps, and fellowship program personnel; (2) plans, directs, and evaluates the activities of the Human Resources Management Office (HRMO); (3) advises the Director, CDC, and other CDC management staff on all matters relating to human resources management; (4) administers the National Performance Review and Human Resources initiatives; (5) develops, coordinates, and disseminates personnel policies, programs, and procedures in position management, classification, compensation, and staffing; (6) establishes objectives, standards, and internal controls; evaluates, analyzes, and makes recommendations to improve personnel authorities, policies, systems, operations, and procedures; (7) develops and monitors proposals and plans related to the implementation of CDC diversity personnel programs and projects; assists with monitoring progress and the success of existing diversity recruitment and placement programs; and (8) provides all administrative/management support as required in HRMO.

Organizational Development Branch (CAJ43). (1) Develops, designs, and implements an accredited comprehensive strategic human resource leadership development and career management program for all occupational series throughout CDC; (2) develops and implements training strategies and activities that contribute to the agency's mission, accomplishments, and organizational performance; (3) integrates a variety of learning methods to provide training; (4) provides consultation, guidance, and technical assistance to managers and employees in organizational development, career management, employee development, and training; (5) coordinates the research and acquisition of external training and educational opportunities for CDC employees; (6) conducts the career counseling program; (7) administers special career management programs including the career development program, the long-term training program, cooperative programs, the worker trainee development program, and the mentoring program; (8) conducts comprehensive training needs assessment of CDC employees nationwide; and (9) conducts new employee orientation.

Career Management Section (CAJ432). (1) Develops and administers agency intern and professional development programs; (2) provides consultation, guidance, and technical assistance to managers and employees regarding career management and employee development; (3) implements and provides advice on distance-learning programs nationwide; (4) acquires, develops, and supports technology-based training; (5) manages the Learning Resource Center including establishing policy, scheduling room usage, providing technical and audio visual support, and maintaining a Learning Library with individualized learning options; (6) creates marketing tools for the Organizational Development Branch; (7) implements and monitors the CDC Training Management System for compliance with the Government Employees Training Act; (8) maintains employee training records; (9) collaborates with the CDC Corporate University Section to develop, implement, and administer the human resources leadership development and career management program for all occupational series throughout CDC; (10) manages formal career development and mentoring programs; (11) procures and/or instructs training courses as part of existing functional area curriculum; (12) establishes partnerships with professional organizations and academic institutions for the formalization and recognition of CDC programs and the offering of academic programs onsite and through distance learning; and (13) manages the use of technology to offer desktop instruction through web-based training, e.g., interactive CD-ROM.

CDC Corporate University Section (CAJ433). (1) Develops, designs, and implements a comprehensive strategic human resources leadership development and career management program for all occupational series throughout CDC; (2) develops formal organizational and individual needs assessment tools to identify core competency requirements for each occupational series throughout the agency; (3) designs curricula that address specified competencies to inculcate continuous learning; (4) develops program plans and evaluates progress toward program goals and objectives; (5) conducts performance measurement, organizational climate surveys, and survey/focus group assessments; (6) develops internal instructor capacity; (7) provides analysis and data to correlate individual training with corporate strategic plans; (8) maximizes economies of scale through systematic planning and evaluation of agency-wide training initiatives; (9) develops new methodology to determine return on investment on human capital and intellectual investments; (10) designs executive leadership programs in collaboration with CDC C/I/Os; (11) develops agency-wide intern programs for succession planning of staffing requirements; and (12) develops and maintains continuing education unit accreditation for school curricula.

Field Operations Branch (CAJ44). (1) Plans, develops, directs, coordinates, implements and evaluates human resources management programs, policies, procedures, and systems; (2) participates in the development of CDC HRMO policy, strategic, long- and short-range plans, programs, and resource allocations; (3) serves as the primary contact for HRMO remote/field operations providing a full range of personnel management, advisory consulting, and information services; (4) provides leadership, technical direction, and guidance in human resource utilization, program development and evaluation; organizational development, position management, classification and pay administration; employment, recruitment, and staffing; employee/labor/partnership relations; benefits and services; performance management, awards, training and employee development; transactions, personnel records, and files management; (5) coordinates HRMO remote/field operations with Headquarter's staff and other CDC, HHS, Federal, State, local, and private organizations; (6) develops annual staffing and recruitment plans, special recruitment campaigns, crediting plans, announcements, advertisements, and special information materials; (7) conducts position management studies, desk audits, qualifications analyses, peer review panels, training assessments, and reductions-in-force; (8) determines title, series, and grade of positions; qualifications, rating, and ranking of applicants; and (9) executes performance, awards, training, labor relations, merit promotion, delegated examining, summer student, fellowship and special emphasis plans; appointing and classification authority; keys, journalizes and files transactions.

Work Force Relations and Partnership Branch (CAJ42). (1) Plans, develops, and provides consultation, guidance, and technical advice on available employee services and assistance; performance, award, and conduct issues; leave administration; on-the-job injuries and exposures to infectious diseases; debt complaints; and other job-related issues; (2) develops and administers labor-management and employee relations program including disciplinary actions, grievances and appeals, labor negotiations, collective bargaining, management representation before third parties, and partnership activities; (3) serves as liaison with the Office of Health and Safety and other CDC staff for personnel matters relating to substance abuse and other employee assistance programs; (4) coordinates the Fare Share and Dependent Care programs; (5) coordinates all Family Friendly programs; (6) administers the incentive and suggestion awards programs; (7) coordinates and processes garnishment, child support, and other collection actions for CDC employees; (8) serves as the primary agency contact on all matters associated with labor-management relations; (9) plans, directs, coordinates, and conducts contract negotiations on behalf of agency management with labor organizations holding exclusive recognition; (10) represents management in third party proceedings involving labor and employee relations issues; (11) serves as the authority to ensure validity, consistency, and legality of employee relations matters concerning grievances (both negotiated and agency procedures), disciplinary actions, adverse actions, and resultant third party hearings; (12) plans and coordinates all programmatic activities to include preparation of disciplinary and adverse action letters and all final agency decisions in grievances and appeals; (13) provides technical advice, consultation, and training on matters of employee conduct and performance and provides personnel services on debt complaints; (14) serves as the authority and primary agency contact on all matters associated with labor-management partnership activities; (15) provides consultation, guidance, and technical advice to personnel generalists, managers, and employees on all family programs; (16) develops, implements, and coordinates CDC Quality of Work Life initiatives; (17) provides personnel services relating to on-the-job injuries and exposures to infectious diseases; and (18) develops, implements, and coordinates performance management systems for civil service employees other than SES and SBRS.

Operations Branch (CAJ45). (1) Serves as the primary contact for CDC management and employees in obtaining the full range of personnel assistance and management services for civil service and Commissioned Corps personnel; (2) provides leadership, technical assistance, guidance, and consultation in human resource utilization, position management, position classification, staffing, employee relations, reorganization, program evaluation, performance management, and personnel records and files management; (3) works as a team with other personnel specialists and CDC organizations to develop staffing plans, identify recruitment needs, and conduct position management studies, desk audits, and job analyses; (4) plans, develops, implements, and evaluates systems to ensure consistently high quality personnel services; (5) processes personnel actions by determining position classifications, issuing vacancy announcements, assisting in development of selection criteria, conducting examining under delegated examining authority, conducting candidate rating and ranking under CDC Merit Promotion Plan, making qualification determinations, determining pay, conducting reductions-in-force, and effecting appointments and other actions; (6) coordinates with other Federal agencies for the assignment of CDC personnel in other countries; (7) establishes and maintains personnel and payroll records, files, and controls; and (8) provides assistance in the implementation of HHS Plan for Drug Free Workplace.

Commissioned Corps Section (CAJ452). (1) Provides technical assistance and information on rights, benefits, and obligations of the Commissioned Corps service to Commissioned Corps personnel and CDC management; (2) provides assistance and information on Commissioned Corps policies and systems such as pay, performance management, assignments, health benefits, training, travel, relocation, promotions, and retirement; (3) provides staffing assistance for CDC's Commissioned Corps promotion and awards programs; and (4) maintains liaison and coordinates personnel services for Commissioned Corps personnel with the Division of Commissioned Personnel.

Central Staffing Section (CAJ453). (1) Implements a centralized staffing and placement program; (2) administers the delegated examining authority, the direct hiring authority, and the temporary limited appointment authority granted by USOPM; (3) oversees the overall staffing process and insures quality control; (4) reviews, evaluates, and makes recommendations on the application and implementation of the USOPM delegated authorities and merit promotion program rules and regulations; (5) provides guidance and consultation in job analyses and in development of knowledge/skills/abilities (KSAs) crediting plans; and (6) manages various staffing programs such as the CDC summer program, the Voluntary Employee Referral Program, the Interagency Career Transition Assistance Program, and the Career Transition Assistance Program.

Technical Services Section (CAJ454). (1) Provides central personnel services and assistance in the areas of employee benefits, personnel action processing, data quality control/assessment, and files/records management; (2) serves as liaison between CDC and the HHS payroll office resolving discrepancies with pay and leave; (3) administers the leave donor program and processes time and attendance amendments; (4) provides policy guidance and technical advice and assistance on retirement, the Thrift Savings Plan, health/life insurance, and savings bonds; (5) codes and finalizes all personnel actions in the automated personnel data system; (6) assists with new employee orientation; (7) establishes and maintains the official personnel files system and administers personnel records storage and disposal program; (8) responds to employment verification inquiries; (9) administers the personnel security program; (10) initiates suitability background checks and fingerprints for all CDC personnel; and (11) provides assistance in the implementation of the HHS Plan for a Drug Free Workplace.

Information Technology and Analysis Branch (CAJ46). (1) Develops strategic plans for information technology and information systems to support CDC's and HRMO's personnel information requirements; (2) acquires and implements appropriate technology and develops information systems to meet CDC-wide information needs on personnel, staffing, and work force characteristics and trends; (3) provides support to HRMO organizations and users in achieving automation of functions and use of information technology and systems; (4) develops, manages, and supports centralized information technology and systems in support of personnel activities, including the HHS personnel system; (5) researches and develops new sources of personnel information and access methods including computer-based CDC-wide surveys; (6) coordinates HRMO information resource management activities with IRMO and CDC information resource management committees; (7) conducts demographic analysis of the CDC work force and publishes results in management reports; and (8) develops methodologies to assess the impact of revised personnel policies and practices on the work force.

Outreach and Marketing Branch (CAJ47). Develops and implements human resource management marketing campaigns; (2) provides leadership in identifying the Centers/Institute/Offices' (CIOs) recruiting needs, and assesses, analyses, and develops CDC's short- and long-range recruitment plans to meet these needs; (3) provides consultation, guidance, and technical advice on recruitment and special emphasis policies, practices, and procedures, including search committees; (4) strategize on the best approach to recruitment as specific events, and designs and develops recruitment materials for events; (5) maintains and manages the Automated Applicant Listing System (AALS/Resumix) for storage and retrieval of applications of those individuals with education and experience appropriate for commonly needed and hard-to-fill positions; coordinates, with CIOs, the referral of appropriate candidates from the applicant pool for position vacancies; (6) provides leadership on recruitment activities through the development of policies and practices for effective communication of HRMO programs, coordinates the development and dissemination of information among HRMO and the CIOs, provides training and technical assistance to CIO staff; (7) manages and operates the CDC Job Information Center, including the automated telephone job line; (8) markets and manages special emphasis programs including the Program for Persons with Disabilities and the Disabled Veterans Affirmative Action Program, the Veterans Readjustment Appointment Program, the Federal Equal Opportunity Recruitment Program, and diversity recruitment and placement, college relations and student employment programs; and (9) provides leadership in assessing progress in achieving overall staffing; EEO, and Affirmative Action goals.

Information Resources Management Office (CAJ5). (1) Develops and coordinates CDC-wide plans and budgets for the management of information technology and services, including data processing, office automation, and telecommunications; (2) develops and recommends policies and procedures relating to information resources management and support services; (3) provides leadership in the implementation of policies and procedures to promote improved information management practices throughout CDC; (4) coordinates, manages, and administers CDC-wide integrated ADP, office automation, and telecommunications networks; (5) identifies CDC-wide information needs, and develops or stimulates the development of creative solutions to these needs; (6) designs, develops, catalogs, and manages data bases, including acquisition and use of external data bases, and information systems supporting CDC-wide functions; (7) maintains state-of-the-art expertise in information science and technology to promote the efficient and effective conduct of the CDC mission; (8) provides consultation, technical advice and assistance, and training in the selection and use of equipment, systems, and services to process information; (9) manages all centralized data and word processing, voice, and data communications facilities; (10) develops and coordinates the implementation of IRMO information security programs; (11) maintains liaison with HHS, PHS, and other Federal agencies on information resources management activities.

Office of the Director (CAJ51). (1) Plans, directs, coordinates, and implements activities of the Information Resources Management Office (IRMO); (2) develops and coordinates CDC-wide plans and budgets for the management of information technology and services, including data processing, office automation, and telecommunications; (3) develops and recommends policies and procedures relating to information resources management and support services; (4) provides leadership in the implementation of policies and procedures to promote improved information management practices throughout CDC; (5) coordinates CDC-wide integrated ADP, office automation, and telecommunications networks; (6) maintains state-of-the-art expertise in information science and technology to promote the efficient and effective conduct of the CDC mission; (7) performs and coordinates research and development activities related to new information resources management technologies; (8) coordinates the design, development, and implementation of CDC-wide information resources management systems architecture; (9) identifies CDC-wide information needs, and develops or stimulates the development of creative Office solutions to these needs; (10) coordinates the provision of technical advice, assistance, and consultation in the selection and use of information technology, systems, and services; (11) develops and coordinates the implementation of IRMO information security programs; (12) provides administrative services to IRMO, as appropriate; (13) maintains liaison with HHS, PHS, and other Federal agencies on information resources management activities.

Administrative and Program Services Activity (CAJ512). (1) Plans, coordinates, and provides administrative support and management assistance IRMO-wide in the areas of fiscal management, personnel, travel, training, contract administration, and other administrative services; (2) provides assistance in formulating, developing, negotiating, managing, and administering various IRMO and CDC-wide technology and service contracts; (3) coordinates, manages, and provides review and oversight of IRMO activities relating to all areas of acquisition, materiel management, and reimbursable agreements; (4) develops and implements administrative policies, procedures, and operations, as appropriate, for IRMO, and prepares special reports and studies as required in the administrative management areas; (5) maintains liaison with the staffs of other offices within the Office of Program Support and the administrative offices of the CIOs.

CDC Information Center (CAJ55). (1) In collaboration with CDC Information Center user, CIOs, and external partners, plans, directs, develops, implements, promotes, disseminates, and evaluates CDC Information Center services and products; (2) coordinates with all CDC Information Centers in the development of strategic plans, services, and products for all CDC Information Centers; (3) provides CDC-wide coordination for Web services and document management database applications; (4) provides comprehensive information and references services for CDC scientists and the broader public health community by accessing print and electronic literature, Web products, and database services; (5) delivers training, expertise, consultation, and assistance in use of information services and products for CDC researchers and for the public health community; (6) plans and manages book and document delivery services including desktop delivery, photocopy, circulation, and interlibrary loan; (7) selects, organizes, and maintains print and electronics resources and collections to support information needs of CDC researchers and external partners; (8) plans and manages information systems to provide access to CDC information center holdings and other public health information resources; (9) provides consultation and technical assistance to other CDC organizations in planning, developing, and implementing information services and products; (10) coordinates the assessment of user needs and directs responses, including the development of new products and services, for user groups; (11) evaluates, develops, and selects new information technology for the management and dissemination of information services and products.

Large Systems Computing Branch (CAJ52). (1) Plans, directs, and evaluates activities of the Large Systems Computing Branch; (2) plans and coordinates the selection, development, management, promotion, training, and support of CDC-wide mainframe software and distributed database technologies; (3) coordinates training, advice, consultation, and assistance to users of mainframe and database software; (4) provides technical assistance in the development and support of data exchange between mainframe and distributed databases; (5) provides technical assistance and support for CDC-wide statistical analysis software; (6) manages and coordinates CDC-wide data resources ensuring integrity, availability, security, and recoverability; (7) coordinates the identification of user needs for mainframe, statistical, and distributed database technologies through user groups and other forums.

Management Information Systems Branch (CAJ53). (1) In collaboration with other CDC organizations, plans, directs, develops, implements, supports, and evaluates CDC's centralized management information systems; (2) collaborates with CDC organizations to jointly develop, test, and implement CDC-wide management information systems; (3) coordinates the development of strategies plans for CDC-wide management information systems; (4) provides consultation and technical assistance to other CDC organizations in management information systems development, access to centralized management data, and system integration; (5) determines appropriate technology architecture and methodology for each centralized management information system; (6) maintains databases, inventories, and data dictionaries for CDC's administrative data; (7) determines needs and recommends approaches for developing systems and interfaces between various information technologies for sharing data and performing cooperative applications processing; (8) determines, in consultation with users and the systems security officer, applicable database and applications security measures in accordance with sensitivity and criticality of the data or system; (9) develops standards, quality assurance procedures, and guidelines for effective and efficient approaches to applications development and database management; (10) coordinates the provision of documentation, support, and training in the use of information systems purchased or developed by the Branch; (11) researches and develops new technologies and methodologies for management information system development and database management.

Network Technology Branch (CAJ54). (1) Designs, develops, implements, supports, and manages CDC's centralized networking facilities including voice, data, and video communications; (2) manages the design, development, and implementation of specialized systems software, utilities, routines, and other control programs to enhance and facilitate the use, integration, and communications between information processing equipment, software, and systems; (3) provides data network support services for CDC's local area networks (LANs) and wide area network (WAN) including planning, managing, installing, diagnosing problems, maintaining, and repairing data network equipment not channel-connected to the mainframe, the electronics, operating software and data communications technology such as controllers, mulitplexors, network interface boards, modems, gateways, bridges, routers, and transport media such as leased telephone lines, copper and fiber optic cabling systems; (4) performs ongoing research, evaluation, and testing of new technologies and services to improve CDC's LANs and WAN; (5) provides problem triaging, and diagnostic and repair services for CDC Computer Center network terminals and other personal workstation processors; (6) assists in assuring maximum network reliability, availability, performance, and serviceability through monitoring, testing, and evaluating network architecture, implementation, and transmission characteristics; (7) provides technical support and coordinates training for users of LAN and WAN hardware and software; (8) provides management, operational support, and user assistance for IRMO-managed office systems and LANs; (9) manages, administers, and coordinates CDC's electronic mail and communication gateways; (10) provides technical assistance to CDC organizations in selecting, installing, maintaining, and evaluating office systems and LAN software; (11) coordinates office systems and LAN user groups; (12) provides voice communications services, equipment, and support for CDC Atlanta facilities by analyzing requirements and designing, ordering, and managing the installation of appropriate equipment, software, and services; (13) performs ongoing research, evaluation, and testing of new technologies and services to improve CDC's voice communications architecture and services; (14) provides support of CDC's voice communications network by triaging problem reports, diagnosing problems, and taking corrective actions through contractors, service providers, and staff to effect software changes, equipment replacement, wiring repairs, user training, and other actions; (15) provides technical assistance to CDC field locations in telecommunications management issues.

Management Analysis and Services Office (CAJ6). (1) Plans, coordinates, and provides CDC-wide administrative, technical, management, and information services in the following areas: policy development and consultation, studies and surveys, delegations of authorities, organizations and functions, information security, Privacy Act, confidentiality management, records management, printing procurement and reproduction, classroom and meeting management, forms design and management, publications distribution, mail services, public inquiries, reports and committee management, special events coordination; (2) develops and implements policies and procedures in these areas; (3) conducts management control reviews and coordinates IG/GAO audits; (4) maintains liaison with HHS, General Services Administration, the Government Printing Office, National Archives and Records Administration, and other Government and private agencies.

Office of the Director (CAJ61). (1) Plans, directs, coordinates, and implements activities of the Management Analysis and Services Office (MASO).

Committee Management and Program Panels Activity (CAJ62). (1) Develops and manages, in conjunction with CDC's grants management requirements, a CDC-wide special emphasis panel that is the primary review mechanism for assuring scientific and programmatic review of applications for grant support; (2) coordinates committee management activities, including Federal advisory committees, for CDC; (3) plans and coordinates CDC special events.

Management Analysis Branch (CAJ64). (1) Provides consultation and assistance to CDC program officials on the establishment, modification, or abolishment of organizational structures and functions; reviews and analyzes organizational changes; and develops documents for approval by appropriate CDC or HHS officials; (2) conducts management and operational studies for CDC to improve the effectiveness and efficiency of management and administrative systems techniques, policies, and organizational structures; (3) interprets, analyzes, and makes recommendations concerning delegations and redelegations of program and administrative authorities, and develops appropriate delegating documents; (4) develops and coordinates the implementation and conduct of CDC-wide information security programs; (5) conducts a CDC-wide records management program, including provision of technical assistance in the development and conduct of electronic records management activities; (6) plans, directs, and coordinates requirements of OMB Circulars A-76 and A-123 to conduct management review activities and to determine whether certain Agency functions might be more appropriately carried out through or by commercial sources; (7) plans, develops, and implements policies and procedures in these areas, as appropriate.

Management Procedures Branch (CAJ63). (1) Manages the CDC policy issuance system to include policy development, dissemination, and advisory services; interprets HHS and other directives and assesses their impact on CDC policy, and maintains the official CDC library of administrative management policy and procedures manuals; (2) directs the agency-wide confidentiality management function to process applications for approval to collect sensitive research data in accordance with special confidentiality authorities in Sections 301(d) and 308(d) of the Public Health Service Act; (3) coordinates IG/GAO audit activities; (4) provides consultation and assistance to CDC program officials and staff in complying with the requirements of the Privacy Act and accompanying guidelines and regulations; (5) provides forms management services, including development, coordination of clearances, and inventory management; (6) plans, develops, and implements policies and procedures in these areas, as appropriate.

Management Services Branch (CAJ65). (1) Plans and conducts a publications management program, including development, production, procurement, distribution, and storage of CDC publications; (2) plans, directs, coordinates, and implements CDC-wide information distribution services and mail and messenger services, including the establishment and maintenance of mailing lists; (3) maintains liaison with contract suppliers, HHS, the Government Printing Office, and other Government agencies on matters pertaining to printing, copy preparation, reproduction, and procurement of printing; (4) serves as the focal point for recommending policies and establishing procedures for matters pertaining to energy conservation and recycling; (5) receives and reviews requests received from the public for information and publications, and responds to the requests or forwards to the appropriate CDC program for action; (6) manages the CDC learning environment through classroom and meeting support for CDC's Atlanta campuses; (7) plans, develops, and implements policies and procedures in these areas, as appropriate.

Procurement and Grants Office (CAJ7). (1) Advise the Director, CDC, and the Director's staff, and provides leadership and direction for CDC acquisition, assistance, and materiel management activities; (2) plans and develops CDC-wide policies, procedures, and practices in acquisition, assistance, and materiel management areas; (3) obtains research and development, services, equipment, supplies, and construction through acquisition processes; (4) maintains functions relating to personal property, transportation, and warehousing operations; (5) awards, administers, and terminates contracts, purchase orders, grants, and cooperative agreements; (6) maintains a continuing review of CDC-wide acquisition, assistance, and materiel management operations to ensure adherence to laws, policies, procedures, and regulations; (7) maintains liaison with HHS, PHS, GSA, and other Federal agencies on acquisition, assistance, and materiel management policy, procedure, and operating matters.

Office of the Director (CAJ71). (1) Provides leadership and guidance in all areas of Procurement and Grants Office, (PGO) activities; (2) provides technical and managerial direction for the development of CDC-wide policies, procedures, and practices in the acquisition, assistance, and material management areas; (3) participates with senior management in program planning, policy determinations, evaluations, and decisions concerning acquisition, assistance, and materiel management; (4) provides direction for award, administration, measures of effectiveness and termination of contracts, purchase orders, grants, and cooperative agreements; (5) maintains a continuing review of CDC-wide acquisition, assistance, management, and materiel management operations to assure adherence to laws, policies, procedures, and regulations; (6) maintains liaison with HHS, GSA, and other Federal agencies on acquisition, assistance, and materiel management policy, procedure, and operating matters; (7) provides administrative services and direction for budget, property, travel, and personnel of the PGO; (8) processes data for and maintains the contract information system for CDC and HHS; (9) provides technical and managerial direction for the development, implementation and maintenance of the Integrated Contracts Expert (ICE) System on a CDC-wide basis; (10) provides administrative support activities for training and development of all PGO employees; (11) operates CDC's Small and Disadvantaged Business Program and provides direction and support to various other socioeconomic programs encompassing the acquisition and assistance activities; (12) provides cost advisory support to acquisition and assistance activities with responsibility for initiating respects for audits and evaluations, and providing recommendations to contracting officer or grants management officer; (13) as required, participates in negotiations with potential contractors and grantees, developing overhead rates for profit and nonprofit organizations, and provides professional advice on accounting and cost principles in resolving audit exceptions as they relate to the acquisition and assistance processes; (14) provides information technology support with responsibility for planning, budgeting, designing, developing, coordinating, monitoring, and implementing IT projects, activities, and initiatives; (15) develops and implements organizational strategic planning goals and objectives.

Acquisition and Assistance Branch A (CAJ74). (1) Plans, directs, and conducts the acquisition of non-personal services, supplies, equipment, research and development, studies, and data collection for CDC through a variety of contractual mechanisms (competitive and non-competitive); (2) plans, directs, and conducts assistance management activities for CDC through the awards of grants and cooperative agreements (competitive and non-competitive); (3) reviews statements of work and assistance applications from a management point of view for conformity to laws, regulations, and policies, and negotiates and issues contract, grant and cooperative agreement awards; (4) provides continuing surveillance of financial and administrative aspects of acquisition and assistance supported activities to assure compliance with appropriate HHS and CDC policies; (5) gives technical assistance, where indicated, to improve the management of acquisition and assistance supported activities and responds to requests for management information from Office of Director, headquarters, regional staff, CDC program offices and the public; (6) performs contract and purchasing administrative activities including coordination and negotiation of contract modifications, reviewing and approving contractor billings, resolving audit findings, and performing close-out/termination activities; (7) provides for the collection and reporting business management and programmatic data, and analyzes and monitors business management data on grants and cooperative agreements; (8) assures that contractor and grantee performance is in accordance with contractual and assistance commitments; (9) provides leadership and guidance to CDC project officers and program officials; (10) provides leadership, direction, procurement options and approaches in developing specification/statements of work and contract awards; (11) plans, directs, coordinates, and conducts the grants management functions and processes in support of assistance awards, including cooperative agreements, discretionary grants, block grants, and formula grants, to State and local governments, universities, colleges, research institution, hospitals, and other public and private organizations, small businesses, and minority- and/or women-owned businesses for CDC; (12) participates with top program management in program planning, policy determination, evaluation, and directions concerning acquisition and assistance strategies and execution; (13) maintains Branch's official contract and assistance files; (14) maintains a close working relationship with CDC program office components in carrying out their missions; (15) establishes Branch goals, objectives, and priorities and assures their consistency and coordination with the overall objectives of PGO.

Acquisition and Assistance Branch B (CAJ75). (1) Plans, directs, and conducts the acquisition of non-personal services, supplies, equipment, research and development, studies, and data collection for CDC through a variety of contractual mechanisms, (competitive and non-competitive); (2) plans, directs, and conducts assistance management activities for CDC through the awards of grants and cooperative agreements (competitive and non-competitive); (3) reviews statements of work and assistance applications from a management point of view for conformity to laws, regulations, and policies, and negotiates and issues contract, grant and cooperative agreement awards; (4) provides continuing surveillance of financial and administrative aspects of acquisition and assistance supported activities to assure compliance with appropriate HHS and CDC policies; (5) gives technical assistance, where indicated, to improve the management of acquisition and assistance supported activities and responds to requests for management information from Office of Director, headquarters, regional staffs, CDC program offices and the public; (6) performs contract and purchasing administrative activities including coordination and negotiation of contract modifications, reviewing and approving contractor billings, resolving audit findings, and performing close-out/termination activities; (7) provides for the collection and reporting of business management and programmatic data, and analyzes and monitors business management data on grants and cooperative agreements; (8) assures that contractor and grantee performance is in accordance with contractual and assistance commitments; (9) provides leadership and guidance to CDC project officers and program officials; (10) provides leadership, direction, procurement options and approaches in developing specifications/statements of work and contract awards; (11) plans, directs, coordinates, and conducts the grants management functions and processes in support of assistance awards, including cooperative agreements, discretionary grants, block grants, and formula grants, to State and local governments, universities, colleges, research institutions, hospitals, and other public and private organizations, small businesses, and minority- and/or women-owned businesses for CDC; (12) participates with top program management in program planning, policy determination, evaluation, and directions, concerning acquisition and assistance strategies and execution; (13) maintains Branch's official contract and assistance files; (14) maintains a close working relationship with CDC program office components in carrying out their missions; (15) establishes Branch goals, objectives, and priorities and assures their consistency and coordination with the overall objectives of PGO.

Acquisition and Assistance Field Branch (CAJ72). (1) Plans, directs, and conducts the acquisition of non-personal services, supplies, equipment, research and development, studies, and data collection for NIOSH, NCHS, and other CIOs as directed by PGO management through a variety of contractual mechanisms (competitive and non-competitive); (2) plans, directs, and conducts assistance management activities for NIOSH, NCHS, and other CIOs through the awards of grants and cooperative agreements (competitive and non-competitive); (3) reviews statements of work and assistance applications from a management point of view for conformity to laws, regulations, and policies, and negotiates and issues contract, grant, and cooperative agreement awards; (4) provides continuing surveillance of financial and administrative aspects of acquisition and assistance supported activities to assure compliance with appropriate HHS and CDC policies; (5) gives technical assistance, where indicated, to improve the management of acquisition and assistance supported activities and responds to requests for management information from Office of Director, headquarters, regional staffs, NIOSH, NCHS, and the public; (6) performs contract and purchasing administrative activities including coordination and negotiation of contract modifications, reviewing and approving contractor billings, resolving audit findings, and performing close-out/termination activities; (7) provides for the collection and reporting of business management and programmatic data, and analyzes and monitors business management data on grants and cooperative agreements; (8) assures that contractor and grantee performance is in accordance with contractual and assistance commitments; (9) provides leadership, direction, procurement options and approaches in developing specification/statements of work and contract awards; (10) plans, directs, coordinates, and conducts the grants management functions and processes in support of assistance awards, including cooperative agreements, discretionary grants, block grants, and formula grants, to State and local governments, universities, colleges, research institutions, hospitals, and other public and private organizations, small businesses, and minority- and/or women-owned businesses for NIOSH, NCHS, and other CIOs as directed by PGO management; (11) participated with top program management in program planning, policy determination, evaluation, and directions concerning acquisition and assistance strategies and execution;; (12) maintains Branch's official contract assistance files; (13) maintains a close working relationship with NIOSH, NCHS, and other CIO components in carrying out their missions; (14) establishes Branch goals, objectives, and priorities and assures their consistency and coordination with the overall objectives of PGO.

Construction and Facilities Management Branch (CAJ76). (1) Directs and controls acquisition planning activities to assure total program needs are addressed and procurements are conducted in a logical, appropriate, and timely sequence; (2) Plans, directs, and conducts the acquisition of non-personal services, institutional support services, architect/engineering services, construction of new buildings, alterations and renovations, and commodities and equipment in support of CDC facilities, utilizing a wide variety of contract types and pricing arrangements; (3) provides leadership, direction, procurement options and approaches in developing specifications/statements of work and contract awards; (4) performs contract and purchasing administrative activities including coordination and negotiation of contract modifications, reviewing and approving contractor billings, resolving audit findings, and performing close-out/termination activities; (5) performs simplified acquisition activities in support of CDC program offices; (6) assures that contractor performance is in accordance with contractual commitments; (7) provides leadership and guidance to CDC project officers and program officials; (8) participates with senior program management in program planning, policy determination, evaluation, and directions concerning acquisition strategies and execution; (9) plans, directs, and coordinates activities of the Branch; (10) maintains Branch's official contracts files; (11) maintains a close working relationship with Facilities Planning and Management Office and other CDC components in carrying out their missions; (12) establishes Branch goals, objectives, and priorities and assures their consistency and coordination with overall objectives of PGO.

International and Territories Acquisition and Assistance Branch (CAJ77). (1) Plans, directs and conducts the acquisition of a wide variety of services, research and development, studies, data collection, equipment, materials, and personal and nonpersonal services in support of CDC's international operations, utilizing a wide variety of contract types and pricing arrangements; (2) plans, directs and conducts assistance management activities for CDC's international programs; (3) provides leadership, direction, and acquisition options and approaches in developing specifications/statements of work and grants announcements; (4) participates with top program management in program planning, policy determination, evaluation and direction concerning acquisition and grants strategies and execution; (5) provides innovative problem-solving methods in the coordination on international procurement and grants for a wide range plan with partners in virtually all major domestic and international health agencies dealing with United Nations Foundation health priorities/issues to include resolution of matters with the Department of State; (6) executes contracts and grants in support of international activities; (7) provides business management oversight for contracts and assistance awards.

Materiel Management Branch (CAJ73). (1) Implements CDC-wide policies, procedures, and criteria required to implement Federal and Departmental regulations governing materiel management and transportation management; (2) evaluates operations to determine procedural changes needed to maintain effective management; (3) provides technical assistance to other parts of CDC on matters pertaining to materiel management, transportation management, and agent cashier services; (4) develops, designs, and tests materiel management systems and procedures; (5) represents CDC on inter- and intra-departmental materiel and transportation management committees; (6) maintains liaison with the Department and other Federal agencies on materiel management and transportation and traffic management matters; (7) establishes Branch goals, objectives, and priorities and assures their consistency and coordination with the overall objectives of PGO.

Office of Security and Emergency Preparedness (CAJ8). (1) Plans, directs, coordinates, and evaluates a comprehensive protection and security program that requires the development of protection and security criteria to eliminate or control protection and security vulnerabilities encountered in the construction, operations, and maintenance of CDC's research laboratories, administration and support facilities, and the physical plant; (2) is responsible for all security and protection programs including education, training, technical assistance, physical security, identification badges, personnel security to include background/NACI checks, security clearances, adjudications, as well as door locks and card readers, parking and traffic control, vehicle inspections, clearing delivery vehicles, directly respond to emergency services personnel; (3) implements Federal and Departmental regulations and establishes CDC policies and procedures in the area of security, emergency management preparedness, and protection; (4) as the focal point for the receipt and transmittal of classified documents, clearances, and provides security briefing and debriefing for persons holding security clearances, and destroys outdated classified documents; (5) maintains liaison with international, national, State, and local law enforcement and emergency management agencies, with particular emphasis on the Federal Bureau of Investigation, Dekalb County Police and Fire Departments, security directors of Emory Hospital, Emory University, Egleston Children's Hospital, American Cancer Society, Wesley Woods Retirement Center, VA Medical Center, Emory Conference Center, Carter Center, GA State Patrol, Georgia Emergency Management Administration (GEMA), and the Federal Emergency Management Administration (FEMA); (6) develops, implements and maintains an agency wide and comprehensive internal Emergency Management and Continuity of Operations Plans, this includes (but is not limited to) updates, training, testing and management of the system; (7) plans, conducts and coordinates programs to protect life, property, and the environment in the event of fire, explosions, hazardous materials and natural disasters.

Dated: July 25, 2003.
William H. Gimson,
Chief Operating Officer, Centers for Disease C[ontrol and Prevention.

[FR Doc. 03-20090 Filed 8-6-03; 8:45 am]

BILLING CODE 4160-18-M